OFFICE OF PERSONNEL MANAGEMENT

Submission for OMB Emergency Clearance and Review; Comment Request for a Revision of a Currently Approved Collection: Presidential Management Intern Program; Online Application and Resume Builder

AGENCY: Office of Personnel Management.

ACTION: Notice.

SUMMARY: In accordance with the Paperwork Reduction Act of 1995 (Pub. L. 104-13, May 22, 1995), this notice announces that the Office of Personnel Management (OPM) submitted a request to the Office of Management and Budget for emergency clearance and review of a revision of a currently approved collection for an automated online application and resume builder for the Presidential Management Intern (PMI) Program. Approval of the PMI online application and resume builder is necessary to facilitate the timely registration, nomination, selection and placement of PMI finalists in Federal agencies.

The present OPM Form 1300, PMI Application, consists of a 6-page scan-form in order to be nominated into the program. Graduate students must fill out the form, attach a resume, and submit the form and attachment to their school's nomination official. OPM received OMB approval last year, with an expiration of 12/31/2003, for this collection of information. In order to meet Government Paperwork Elimination Act (GPEA) requirements of automating government forms by October 2003, OPM is developing an online application and resume builder to substitute for the existing method of collection. Upon OMB approval, the online application and resume builder will replace the present scan-form, and OPM will transfer the form identifier of OPM Form 1300 to the online version. An alternative paper-based application will be made available for those applicants with disabilities and/or inability to access the Internet.

The following significant changes have been made to the application and nomination process: (1) The online application and resume builder will replace the OPM Form 1300 scan-form with an electronic version available through the PMI Web site; (2) the PMI Web site's Program Overview will be updated to reflect the changes needed to complete the online application and resume builder; (3) the online resume builder will be structured similarly to the USAJOBS online resume builder; (4) an accomplishment record containing three short essays has been added to facilitate a first round of assessments for PMI finalists as a prescreening tool; (5) data will be collected from all applicants and not just those nominated by school officials; and (6) students will be required to submit their applications by October 15, while the deadline for schools to submit their nominees will remain October 31.

We estimate 5,000 applications will be received and processed in the 2003/2004 open season for PMI applications. During the 2002/2003 open season OPM received approximately 2,800 nominees, a 24% increase over the previous year and a 460% increase in the last 7 years. We estimate students will need 2 hours to complete the online application and resume builder and electronically submit it to their nominating school official. In addition, we estimate school nominating officials will need ½ hour to receive, review and render a decision on the student's application for nomination into the PMI program. The annual estimated burden for nominees is 10,000 hours and 2,500 hours for school nominating officials, for a total of 12,500 hours.

Comments are particularly invited on: Whether this information is necessary for the proper performance of functions of the Office of Personnel Management, and whether it will have practical utility; whether our estimate of the public burden of this collection of information is accurate, and based on valid assumptions and methodology; and ways in which we can minimize the burden of the collection of information on those who are to respond, through the use of appropriate technological collection techniques or other forms of information technology.

For copies of this proposal, contact Mary Beth Smith-Toomey at (202) 606-8358, fax (202) 418-3251 or e-mail to mbtoomey@opm.gov. Please include your complete mailing address with your request.

DATES: Comments on this proposal should be received within 5 calendar days from the date of this publication. We are requesting OMB to take action within 15 calendar days from the close of this Federal Register Notice.

ADDRESSES: Send or deliver comments to: U.S. Office of Personnel Management, HRPS/CLCS/PMIP, ATTN: Rob Timmins, 1900 E Street, NW., Room 1425, Washington, DC 20415-9820, e-mail: rtimmins@opm.gov.

and

Allison Eydt, OPM Desk Officer, Office of Management and Budget, Office of Information and Regulatory Affairs, New Executive Office Building, NW., Room 10235, Washington, DC 20503.

Office of Personnel Management.
Kay Coles James,
Director.

[FR Doc. 03-20326 Filed 8-8-03; 8:45 am]

BILLING CODE 6325-38-P